DEPARTMENT OF COMMERCE

International Trade Administration

[A-489-501]

Certain Welded Carbon Steel Pipe and Tube From Turkey: Notice of Extension of Time Limit for Final Results of Antidumping Duty Administrative Review

AGENCY: Import Administration, International Trade Administration, Department of Commerce.

FOR FURTHER INFORMATION CONTACT: Dennis McClure or Victoria Cho, AD/CVD Operations, Office 3, Import Administration, International Trade Administration, U.S. Department of Commerce, 14th Street and Constitution Avenue, NW., Washington, DC 20230; telephone: (202) 482-5973 or (202) 482-5075, respectively.

Background

On June 8, 2011, the Department published the preliminary results of the administrative review of the antidumping order on certain welded carbon steel pipe and tube from Turkey for the period May 1, 2009, through April 30, 2010. See Certain Welded Carbon Steel Pipe and Tube From Turkey; Notice of Preliminary Results of Antidumping Duty Administrative Review, 76 FR 33204 (June 8, 2011). The final results are currently due no later than October 6, 2011.

Extension of Time Limit of the Final Results

In antidumping duty administrative reviews, section 751(a)(3)(A) of the Tariff Act of 1930, as amended (the “Act”), requires the Department to make a final determination in an administrative review of an antidumping duty order within 120 days after the date on which the preliminary results are published. However, if it is not practicable to complete the review within this time period, section 751(a)(3)(A) of the Act allows the Department to extend the time limit for the final results to a maximum of 180 days.

We determine that it is not practicable to complete the final results of this administrative review within the 120-day time limit, because the Department requires additional time to analyze issues in case and rebuttal briefs submitted by parties, including comments on our cost calculation methodology. Therefore, in accordance with section 751(a)(3)(A) of the Act, the Department is fully extending the time limit for the final results to December 5, 2011.

We are issuing and publishing this notice in accordance with sections 751(a)(3)(A) and 777(i) of the Act.

Dated: September 7, 2011.
Christian Marsh,
Deputy Assistant Secretary for Antidumping and Countervailing Duty Operations.

[FR Doc. 2011-23381 Filed 9-12-11; 8:45 am]

BILLING CODE 3510-DS-P